DEPARTMENT OF ENERGY

Federal Energy Regulatory Commission

[Docket Nos. EL19-12-000]

Notice of Institution of Section 206 Proceeding and Refund Effective Date

Dynegy Commercial Asset Management, LLC,

Dynegy Energy Services (East), LLC,

Dynegy Energy Services, LLC,

Dynegy Marketing and Trade, LLC,

Dynegy Midwest Generation, LLC,

Dynegy Power Marketing, LLC,

Dynegy Resources Management, LLC,

Illinois Power Generating Company,

Illinois Power Marketing Company,

Illinois Power Resources Generating, LLC

On December 6, 2018, the Commission issued an order in Docket No. EL19-12-000, pursuant to section 206 of the Federal Power Act (FPA), 16 U.S.C. 824e (2012), instituting an investigation into whether the above-captioned entities' market-based rate authority in the Louisville Gas & Electric/Kentucky Utilities balancing authority area is just and reasonable. Dynegy Commercial Asset Management, LLC et al., 165 FERC 61,211 (2018).

The refund effective date in Docket No. EL19-12-000, established pursuant to section 206(b) of the FPA, will be the date of publication of this notice in the Federal Register.

Any interested person desiring to be heard in Docket No. EL19-12-000 must file a notice of intervention or motion to intervene, as appropriate, with the Federal Energy Regulatory Commission, 888 First Street, NE, Washington, DC 20426, in accordance with Rule 214 of the Commission's Rules of Practice and Procedure, 18 CFR 385.214, within 21 days of the date of issuance of the order.

Dated: December 6, 2018.
Nathaniel J. Davis, Sr.,
Deputy Secretary.

[FR Doc. 2018-26890 Filed 12-11-18; 8:45 am]

BILLING CODE 6717-01-P